ENVIRONMENTAL PROTECTION AGENCY

40 CFR Part 52

[EPA-R06-OAR-2010-0113; FRL-9197-8]

Approval and Promulgation of Air Quality Implementation Plans; Louisiana; Baton Rouge 8-Hour Ozone Nonattainment Area; Determination of Attainment of the 8-Hour Ozone Standard

AGENCY: Environmental Protection Agency (EPA).

ACTION: Final rule.

SUMMARY: The EPA has determined that the Baton Rouge (BR) moderate 8-hour ozone nonattainment area has attained the 1997 8-hour ozone National Ambient Air Quality Standard (NAAQS). This determination is based upon complete, quality assured, certified ambient air monitoring data that show the area has monitored attainment of the 1997 8-hour ozone NAAQS for the 2006-2008 and 2007-2009 monitoring periods. Preliminary data available for 2010 is consistent with continued attainment.

Under the provisions of EPA's 8-hour ozone implementation rule, as a consequence of this determination the requirements for this area to submit an attainment demonstration, a reasonable further progress plan, contingency measures, and other planning State Implementation Plan (SIP) requirements related to attainment of the 1997 8-hour ozone NAAQS, are suspended for so long as the area continues to attain the 1997 8-hour ozone NAAQS.

DATES: This final rule is effective October 12, 2010.

ADDRESSES: EPA has established a docket for this action under Docket Identification No. EPA-R06-OAR-2010-0113. All documents in the docket are listed in the http://www.regulations.gov index. Although listed in the index, some information is not publicly available, e.g., Confidential Business Information (CBI) or other information whose disclosure is restricted by statute. Certain other material, such as copyrighted material, will be publicly available only in hard copy. Publicly available docket materials are available either electronically in http://www.regulations.gov or in hard copy at the Air Planning Section (6PDL), Environmental Protection Agency, 1445 Ross Avenue, Suite 700, Dallas, Texas 75202-2733. The file will be made available by appointment for public inspection in the Region 6 FOIA Review Room between the hours of 8:30 a.m. and 4:30 p.m. weekdays except for legal holidays.

Contact the person listed in the FOR FURTHER INFORMATION CONTACT paragraph below to make an appointment. If possible, please make the appointment at least two working days in advance of your visit. There will be a fee of 15 cents per page for making photocopies of documents. On the day of the visit, please check in at the EPA Region 6 reception area at 1445 Ross Avenue, Suite 700, Dallas, Texas 75202-2733.

FOR FURTHER INFORMATION CONTACT: Ms. Sandra Rennie, Air Planning Section (6PD-L), Environmental Protection Agency, Region 6, 1445 Ross Avenue, Suite 700, Dallas, Texas 75202-2733, telephone (214) 665-7367, fax (214) 665-7263, e-mail address rennie.sandra@epa.gov.

SUPPLEMENTARY INFORMATION: Throughout this document, “we,” “us,” and “our” means EPA. This SUPPLEMENTARY INFORMATION section is arranged as follows:

I. What action is EPA taking?

II. What is the effect of this action?

III. Response to Comments

IV. Final Action

V. Statutory and Executive Order Reviews

I. What action is EPA taking?

We are determining that the BR 8-hour ozone nonattainment area is currently attaining the 1997 8-hour ozone National Ambient Air Quality Standard (NAAQS). This determination is based upon complete, quality-assured, certified ambient air monitoring data that show the area has monitored attainment of the 1997 8-hour ozone NAAQS for the 2006-2008 and 2007-2009 monitoring periods, and that preliminary data available for 2010 is consistent with continued attainment of the NAAQS.

As a consequence of this determination, under the provisions of EPA's ozone implementation rule (see 40 CFR section 51.918), the requirements for this area to submit an attainment demonstration, a reasonable further progress plan (RFP), applicable contingency measures, and other planning State Implementation Plan (SIP) requirements related to attainment of the 1997 8-hour ozone NAAQS, are suspended for so long as the area continues to attain the 1997 8-hour ozone NAAQS.

The rationale for our action is explained in the Notice of Proposed Rulemaking (NPR) published on June 25, 2010 (75 FR 36316) and in today's rulemaking. We received one comment in support of the proposal.

II. What is the effect of this action?

Under the provisions of EPA's ozone implementation rule, 40 CFR 51.918, the requirements for the State of Louisiana to submit an attainment demonstration, a RFP plan, contingency measures under sections 172(c)(9), and any other planning SIPS related to attainment of the 1997 8-hour ozone NAAQS are suspended for so long as the area continues to attain the 1997 8-hour standard.

If EPA subsequently determines, after notice-and-comment rulemaking in the Federal Register, that the BR area has violated the 1997 8-hour ozone NAAQS, the basis for the suspension of the requirements would no longer exist, and EPA would take action to withdraw the determination and direct the area to address the suspended requirements.

This final action does not constitute a redesignation to attainment under CAA section 107(d)(3), because we do not yet have an approved maintenance plan for the area as required under section 175A of the CAA, nor a determination that the area has met the other requirements for redesignation. The classification and designation status of the area remain moderate nonattainment for the 1997 8-hour ozone NAAQS until such time as EPA determines that it meets all the CAA requirements for redesignation to attainment.

III. Response to Comments

EPA received one comment letter in response to the proposed rulemaking. The letter, submitted on behalf of the Louisiana Chemical Association, Louisiana Mid-Continent Oil and Gas Association, and the Baton Rouge Area Chamber of Commerce, expressed support for EPA's proposal.

IV. Final Action

For the reasons set forth in the proposed rulemaking and in this final rulemaking, and based on upon complete, quality-assured, certified ambient air monitoring data showing the BR area has monitored attainment of the 1997 8-hour ozone NAAQS for the 2006-2008 and 2007-2009 monitoring periods, and preliminary data for 2010 that is consistent with continued attainment, EPA is finalizing its determination that the BR area has attained the 1997 8-hour ozone standard. As provided in 40 CFR 51.918, the requirements for submitting the 1997 8-hour ozone attainment demonstration SIP, the RFP requirements, section 172(c)(9) contingency measures and any other planning SIPs related to attainment of the 1997 8-hour ozone NAAQS are suspended for so long as the area continues to attain the 1997 8-hour ozone standard.

V. Statutory and Executive Order Reviews

This action makes a determination of attainment based upon air quality that results in suspensions of certain Clean Air Act requirements, and does not impose additional requirements. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because there is no federally recognized Indian country located in the states, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rules in the Federal Register. A major rule cannot take effect until 60 days after it is published in the Federal Register. This action is not a “major rule” as defined by 5 U.S.C. 804(2).

Under section 307(b)(1) of the Clean Air Act, petitions for judicial review of these actions must be filed in the United States Court of Appeals for the appropriate circuit by November 8, 2010. Filing a petition for reconsideration by the Administrator of these final rules does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxides, Ozone, Reporting and recordkeeping requirements, Volatile organic compounds.

Dated: August 25, 2010.
Al Armendariz,
Regional Administrator, Region 6.

40 CFR part 52 is amended as follows:

PART 52—[AMENDED]

1. The authority citation for part 52 continues to read as follows:

Authority: 42 U.S.C. 7401 et seq.

Subpart T—Louisiana

2. Section 52.977 is amended by designating the existing undesignated paragraph as paragraph (a) and by adding a new paragraph (b) to read as follows:

§ 52.977 Control strategy and regulations: Ozone.

* * * * *

(b) Determination of Attainment. Effective October 12, 2010 EPA has determined that the Baton Rouge 8-hour ozone nonattainment area has attained the 1997 8-hour ozone National Ambient Air Quality Standard (NAAQS). Under the provisions of 40 CFR 51.918 this determination suspends the requirements for this area to submit an attainment demonstration, a reasonable further progress plan, applicable contingency measures, and other planning Louisiana State Implementation Plan (SIP) requirements related to attainment of the 1997 8-hour ozone NAAQS for so long as the area continues to attain the 1997 8-hour ozone NAAQS.

[FR Doc. 2010-22341 Filed 9-8-10; 8:45 am]

BILLING CODE 6560-50-P